DEPARTMENT OF THE INTERIOR

Minerals Management Service

Notice Terminating the Exclusion of Indian Allotted Leases in the Uintah and Ouray Reservation From Valuation Under 30 CFR 206.172

AGENCY: Minerals Management Service, Interior.

ACTION: Notice.

SUMMARY: The Minerals Management Service (MMS) with Bureau of Indian Affairs (BIA) concurrence is terminating the exclusion from valuation under the rules at 30 CFR 206.172 for gas produced from the Ute allotted leases in the Uintah and Ouray Reservation (Reservation), Utah. The final rule was published in the Federal Register on August 10, 1999 (64 FR 43506).

DATES: Effective Date: May 1, 2007.

FOR FURTHER INFORMATION CONTACT: John Barder, Manager, San Juan Basin Region, Indian Oil and Gas Compliance and Asset Management, Minerals Revenue Management, Minerals Management Service, P.O. Box 25165, MS 396B2, Denver, CO 80225-0165, telephone number (303) 231-3702, fax number (303) 231-3755, e-mail john.barder@mms.gov.

SUPPLEMENTARY INFORMATION: The MMS published in the Federal Register on August 10, 1999 (64 FR 43506), a final rule titled “Amendments to Gas Valuation Regulations for Indian Leases” with an effective date of January 1, 2000. Indian leases in the Reservation were excluded from index-based valuation (§ 206.172). This exclusion was based on the results of a cost benefit analysis MMS performed in 1999. In the 1999 cost benefit analysis, MMS estimated individual Indian mineral owners would receive more revenue under the non-index-based valuation methodology (§ 206.174) than under the index-based valuation methodology (§ 206.172).

Effective January 2000, MMS has valued gas production from the Reservation under the non-index-based valuation methodology at § 206.174. However, MMS recently performed a cost benefit analysis for calendar years 2004 through 2005 and estimated that revenues using the index-based valuation formula at § 206.172 exceed the estimated revenues using the non-index-based valuation method at § 206.174. Therefore, as required under § 206.172(g), MMS received written concurrence from BIA to terminate the exclusion from index-based valuation of gas production from Indian allotted leases in the Reservation.

As a result, gas production from Ute allotted leases in the Reservation must be valued under the index-based valuation method (§ 206.172), beginning with production on the first day of the second month following the date MMS publishes notice of its decision in the Federal Register. Lessees must value gas production from Ute allotted leases in the Reservation on the index-based valuation formula at § 206.172(d) using MMS-approved publications and indexes for the Central Rocky Mountain Index Zone to determine the index zone price; or lessees may obtain the index-based values from the MRM Internet Web site at: http://www.mrm.mms.gov.

Approved publications and index pricing points for the Central Rocky Mountain Index Zone are shown in the following table:

Approved Publications and Index Pricing Points for the Central Rocky Mountain Index Zone
Index zone | MMS-approved publications: Platts gas daily price guide | MMS-approved publications: NGI's bidweek survey | Index-pricing points
Central Rocky Mountains | X |  | Kern River Gas Trans. Co. for Wyoming.
| X |  | Northwest Pipeline Corp. for Rocky Mountains.
| X |  | Questar Pipeline Co. for Rocky Mountains.
| X |  | Colorado Interstate Gas Co. for Rocky Mountains.
|  | X | Rocky Mountains • CIG. • Questar. • Kern River. • Northwest Domestic.

Dated: January 16, 2007.
Lucy Querques Denett,
Associate Director for Minerals, Revenue Management.

[FR Doc. E7-4150 Filed 3-7-07; 8:45 am]

BILLING CODE 4310-MR-P